DEPARTMENT OF ENERGY

Federal Energy Regulatory Commission

[Docket No. RP04-442-000]

Transcontinental Gas Pipe Line Corporation; Notice of Proposed Changes in FERC Gas Tariff

August 9, 2004.

Take notice that on August 4, 2004, Transcontinental Gas Pipe Line Corporation (Transco) tendered for filing as part of its FERC Gas Tariff, Third Revised Volume No. 1, and the following tariff sheets, to become effective October 1, 2004:

Fifth Revised Sheet No. 337;

Second Revised Sheet No. 337.10;

First Revised Sheet No. 341A.

Transco states that the purpose of the instant filing is to revise Section 28.1(a) of the General Terms and Conditions (GT&C) to provide that the original nomination provided by a shipper for each day shall apply to the intraday cycles for the gas day unless the shipper revises the nomination. Transco also states that if, a shipper revises its nomination at any of the intraday cycles, the revised nomination shall apply to, or “roll forward” to, subsequent cycles within the gas day. Transco further states that it proposes to revise Section 28.9 of the GT&C to provide that the latest explicit confirmation provided by a point operator shall also roll forward to the remaining cycles within the gas day. Transco notes that it proposes these tariff changes as an enhancement to its 1Line system.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E4-1820 Filed 8-12-04; 8:45 am]

BILLING CODE 6717-01-P